DEPARTMENT OF THE INTERIOR

Bureau of Land Management

[L16100000 DS0000 LXSS036E0000 19X LLMTC020000]

Notice of Availability of the Draft Amendment to the Approved Resource Management Plan for the Miles City Field Office, Montana, and the Associated Supplemental Draft Environmental Impact Statement

AGENCY: Bureau of Land Management, Interior.

ACTION: Notice of availability.

SUMMARY: In accordance with the National Environmental Policy Act of 1969 (NEPA), as amended, and the Federal Land Policy and Management Act of 1976, as amended, the Bureau of Land Management (BLM) Montana Miles City Field Office has prepared a Supplemental Draft Environmental Impact Statement (EIS) for the 2015 Miles City Field Office Approved Resource Management Plan (RMP). This effort is in response to a United States District Court of Montana opinion and order (Western Organization of Resource Councils, et al. v. BLM). By this notice, the BLM is announcing the opening of the comment period.

DATES: To ensure that comments will be considered, the BLM must receive written comments on the Draft Supplemental EIS within 90 days following the date the Environmental Protection Agency publishes its Notice of Availability of the Supplemental Draft EIS in the Federal Register. The BLM will announce future meetings and any other public participation activities at least 15 days in advance through public notices, media releases and/or mailings.

ADDRESSES: You may submit comments related to the Supplemental Draft EIS by any of the following methods:

• Website: https://go.usa.gov/xmbE4.

• Mail: Miles City Field Office; Irma Nansel; 111 Garryowen Road, Miles City, MT 59301.

Copies of the Supplemental Draft EIS are available at the Miles City Field Office at the above address, or may be viewed at: https://go.usa.gov/xmbE4.

FOR FURTHER INFORMATION CONTACT: Irma Nansel, RMP Supplemental EIS Project Manager, Miles City Field Office, at (406) 233-3653, or at the above mailing address or website. Persons who use a telecommunications device for the deaf (TDD) may call the Federal Relay Service (FRS) at 1-800-877-8339 to contact Ms. Nansel during normal business hours. The FRS is available 24 hours a day, 7 days a week, to leave a message or question. You will receive a reply during normal business hours.

SUPPLEMENTARY INFORMATION: The 2015 Miles City Approved RMP provides a single, comprehensive land use plan that guides management of BLM-administered lands and minerals in the Miles City Field Office, which consists of approximately 2.7 million acres of BLM surface land and 10.6 million acres of BLM mineral estate across 17 counties in eastern Montana.

Based on the above-referenced court decision, feedback from cooperating agencies and stakeholders, and public scoping, the BLM developed and analyzed a No Action Alternative and two Action Alternatives, which are detailed in the Supplemental Draft EIS.

The No Action Alternative represents the decision area from the 2015 RMP and brings forward all management decisions that precluded coal development in the 2015 RMP. It relies on the decisions from the 1985 Power River RMP and 1996 Big Dry RMP coal screening process. The No Action Alternative includes a total area of approximately 1,581,240 acres available for further consideration for leasing of BLM-administered coal.

The Action alternatives applied the coal screens (43 CFR 3420.1-4(e)) using current data and evaluate the issues identified through internal and public scoping. The Action alternatives also address the NEPA deficiencies identified by the court order associated with the application of the multiple-use screen. Alternative B considers the development of air resources as a multiple-use screen in accordance with the Clean Air Act. Alternative C applies an air resource multiple-use screen that encompasses greenhouse-gas emission criteria limited to coal development tied to existing mining areas. Based on these factors, Alternative B area contains approximately 990,815 acres available for further consideration for leasing of BLM-administered coal; and Alternative C area contains approximately 144,877 acres available for further consideration for leasing of BLM-administered coal.

The BLM revised the reasonable-foreseeable development scenario used in the 2015 Miles City RMP using current coal production from existing mines to forecast development over the 20-year planning period. The revised scenario was applied to all alternatives.

Before including your address, phone number, email address, or other personal identifying information in your comment, you should be aware that your entire comment—including your personal identifying information—may be made publicly available at any time. While you can ask us in your comment to withhold your personal identifying information from public review, the BLM cannot guarantee that it will be able to do so.

Authority: 40 CFR 1506.6 and 43 CFR 1610.2.

Donato J. Judice,
Acting State Director.

[FR Doc. 2019-10288 Filed 5-16-19; 8:45 am]

BILLING CODE 4310-DN-P